DEPARTMENT OF AGRICULTURE

Forest Service

Alpine County, CA, Resource Advisory Committee (RAC)

AGENCY: Forest Service, USDA.

ACTION: Notice of meeting.

SUMMARY: The Alpine County Resource Advisory Committee (RAC) will meet on December 3, 2001, in Markleeville, CA. The purpose of the meeting is to discuss issues relating to implementing the Secure Rural Schools and Community Self-Determination Act of 2000 (Payments to States) and the expenditure of Title II funds benefiting National Forest System lands on the Humboldt-toiyabe, and Stanislaus National Forests in Alpine County.

DATES: The meeting will be held December 3, 2001, from 3 p.m. to 5:30 p.m.

ADDRESSES: The meeting will be held at the Turtle Rock County Park, markleeville, CA.

FOR FURTHER INFORMATION CONTACT: Laura Williams, Committee Coordinator, USDA, Humboldt-Toiyabe National Forest, 1536 S. Carson St., Carson City, NV 89701, (775) 884-8150, email: ljwilliams@fs.fed.us.

SUPPLEMENTARY INFORMATION: Agenda items to be covered includel: (1) Welcome and introductions; (2) Overview of Payments to States Act, PL 106-393; (3) Developing organizational guidelines for the Alpine County RAC; (4) Planning processes for projects in Alpine county; (5) Preliminary presentation of some project ideas; (6) Public comment. The meeting is open to the public. Public input opportunity will be provided and individuals will have the opportunity to address the Committee at that time.

Dated: November 8, 2001.
Gary Schiff,
Carson District Ranger.

[FR Doc. 01-28715 Filed 11-15-01; 8:45 am]

BILLING CODE 3410-11-M